DEPARTMENT OF DEFENSE

Department of the Army; Corps of Engineers

Notice of Availability of a Draft Environmental Impact Statement in Cooperation With the North Carolina Department of Transportation for Improvements to the US 70 Corridor Between the Town of LaGrange, Lenoir County and the Town of Dover, Jones County, NC. Depending on the Alternative Selected, the Proposed Project May Serve as a Bypass to the Town of Kinston

AGENCY: Department of the Army, U.S. Army Corps of Engineers, DoD.

ACTION: Notice of availability.

SUMMARY: The U.S. Army Corps of Engineers (COE), Wilmington District Regulatory Division and the North Carolina Department of Transportation (NCDOT), acting together as the joint lead agencies, are issuing this notice to advise the public that a State of North Carolina funded Draft Environmental Impact Statement (DEIS) has been prepared describing proposed improvements to the transportation system starting near the intersection of US 70 and NC 903 near the Town of LaGrange, Lenoir County, heading east near the intersection of US 70 and Old US 70 (NCSR-1005) near the Town of Dover, Jones County, NC.

DATES: Written comments on the DEIS will be received until September 6, 2019.

ADDRESSES: COE NCDOT Regulatory Project Manager, Washington Regulatory Field Office, 2407 West 5th Street, Washington, NC 27889; or NCDOT Kinston Bypass, Project Development Engineer, NCDOT, 105 Pactolus Hwy. 33, Greenville, NC 27834.

FOR FURTHER INFORMATION CONTACT: Questions about the proposed action and DEIS can be directed to Mr. Tom Steffens, COE—Regulatory Project Manager, telephone: (910) 251-4615 or Ms. Heather Lane, NCDOT—Project Development Engineer, telephone: (252) 439-2847.

SUPPLEMENTARY INFORMATION: The COE and NCDOT, acting together as joint lead agencies, have prepared a DEIS on a proposal to make transportation improvements to the US 70 corridor between the Town of LaGrange, Lenoir County and the Town of Dover, Jones County, NC. The NCDOT Improvement Program project (TIP R-2553, US 70 Kinston Bypass) will serve to test and evaluate streamlining the project evaluation process by utilizing GIS data for alternative development, alternative analysis, and selection of the Least Environmentally Damaging Practicable Alternative (LEDPA).

The purpose of the US 70 Kinston Bypass project is to improve regional mobility, connectivity and capacity deficiencies on US 70 between LaGrange and Dover. The project study area is roughly bounded on the west by NC-903 and US 70 near LaGrange, on the north by the Lenoir/Greene County line, to the east near Dover and to the south at the Duplin/Lenoir County line.

This project is being reviewed through the Merger Process, designed to streamline the project development and permitting processes, agreed to by the COE, North Carolina Department of Environment and Natural Resources (Division of Water Resources, Division of Coastal Management), Federal Highway Administration (for this project not applicable), and NCDOT and supported by other stakeholder agencies and local units of government. The other partnering agencies include: U.S. Environmental Protection Agency; U.S. Fish and Wildlife Service; N.C. Wildlife Resources Commission; N.C. Department of Cultural Resources; and the Eastern Carolina Planning Organization. The Merger Process provides a forum for appropriate agency representatives to discuss and reach consensus on meeting the regulatory requirements of Section 404 of the Clean Water Act during the NEPA/SEPA decision-making phase of transportation projects.

In June 2010 the project was presented to federal and state resource and regulatory agencies to gain concurrence on the purpose and need for the project. The aforementioned purpose and need of the project was agreed upon by participating agencies in October of 2010. In November 2011, the project was again presented to participating agencies regarding the preliminary corridor screening process in an attempt to decide which alternatives would be carried forward for detailed analysis. Multiple meetings throughout 2012 and 2013 revised the initial number of alternatives carried forward for detailed analysis down to a reasonable range. In January of 2014, a determination was made on the final alternatives to carry forward. Since 2014, the COE has been working closely with NCDOT and its representatives to identify jurisdictional resources within the remaining alternatives. This effort was completed in the spring of 2017.

Upon completion of the DEIS, NCDOT will submit a request to the COE to solicit comment from the public in order to identify the LEDPA for the project.

Citizens informational workshops have been scheduled by NCDOT for August 17th and 19th followed by a Public Hearing on August 20th, 2019 at which time citizens will be able to voice their opinions on the LEDPA and the content of the DEIS.

The DEIS is available on the COE website at: https://www.saw.usace.army.mil/Missions/Regulatory-Permit-Program/Major-Projects/ and also available on the NCDOT website at: http://www.ncdot.org/projects/kinston-bypass/Pages/default.aspx. Any person having difficulty in viewing the document online can contact the COE project manager or the NCDOT project manager for a CD copy of the document.

After distribution and review of the DEIS and Final EIS, the Applicant understands that the COE in coordination with the NCDOT will issue a Record of Decision (ROD) for the project. The ROD will document the completion of the EIS process and will serve as a basis for permitting decisions by federal and state agencies.

To ensure that the full range of issues related to this proposed action are addressed and all significant issues identified, comments and suggestions are invited from all interested parties. Comments or questions concerning this proposed action and the DEIS should be directed to the COE at the address provided. The COE will periodically issue Public Notices soliciting public and agency comment on the proposed action and alternatives to the proposed action as they are developed.

Dated: July 3, 2019.
Henry M. Wicker, Jr.,
Deputy Chief, Regulatory Division, Wilmington District.

[FR Doc. 2019-15297 Filed 7-19-19; 8:45 am]

BILLING CODE 3720-58-P